DEPARTMENT OF HEALTH AND HUMAN SERVICES

Office of the Secretary

[Document Identifier: HHS-OS-0990-new-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before June 28, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-new-60D for reference.

Information Collection Request Title: Evaluation of the Women's Health Leadership Institute Program.

Abstract: The U.S. Department of Health and Human Services (HHS) Office on Women's Health (OWH) is requesting approval for new data collection to assess the impact of the Women's Health Leadership Institute (WHLI) program. The WHLI trained community health workers (CHWs) to gain leadership skills and to use a public health systems approach to address chronic disease and health disparities in their communities. WHLI employed a train-the-trainers model (i.e., experienced personnel coach and mentor inexperienced instructors to develop skills and knowledge needed to deliver the course), where Master Trainers (MTs) learned to deliver the WHLI training curriculum to CHWs. At the end of the program, CHWs received guidance on developing Community Action Projects (CAPs) to implement systems-level changes in their communities.

The evaluation will consist of both a process evaluation that focuses on CHWs' satisfaction with the training and suggestions for improvement, and an outcome evaluation that assesses (1) intermediate outcomes including the sustainability of CHWs' leadership knowledge and competencies, and the application of these competencies in leadership activities and CAP development; and (2) long-term outcomes including positive systemic and/or community level changes made around women's health issues. Data from the study will enable OWH to understand what components of the training were most successful and to identify aspects of the training in need of improvement. Results will also help OWH with planning and developing future training initiatives to promote effective programs for women and girls.

Total Estimated Annualized Burden—Hours
Form name | Number of respondents | Number of responses per respondent | Average burden per response (in hours) | Total burden hours
Online Survey—All CHWs | 422 | 1 | 25/60 | * 176
Telephone Interviews—CHWs with completed CAPs or other leadership activities | 40 | 1 | 30/60 | 20
Telephone Interviews—Master Trainers | 18 | 1 | 30/60 | 9
Telephone Interviews—CHW Worksite Supervisors | 20 | 1 | 30/60 | 10
Telephone Interviews—Community Stakeholders | 20 | 1 | 30/60 | 10
Total | 520 |  |  | 225
* Numbers have been rounded.

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-10062 Filed 4-28-16; 8:45 am]

BILLING CODE 4150-33-P